DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2010, there were six applications approved. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Birmingham Airport Authority, Birmingham, Alabama.

Application Number: 10-09-C-00-BHM.

Application Type: Impose and use a PFC.

PFC Level: $4.50.

Total PFC Revenue Approved in this Decision: $151,500,000.

Earliest Charge Effective Date: October 1, 2011.

Estimated Charge Expiration Date: June 1, 2031.

Class of Air Carriers Not Required to Collect PFC's: Air taxi/commercial operators filing FAA Form 1800-31.

Determination: Approved. Based on information contained in the public agency's application, the FAA has determined that the approved class accounts for less than 1 percent of the total annual enplanements at Birmingham—Shuttlesworth International Airport.

Brief Description of Project Approved for Collection and Use: Terminal modernization project construction and equipment.

Decision Date: November 4, 2010.

For Further Information Contact: Kevin Morgan, Jackson Airports District Office, (601) 664-9891.

Public Agency: County of Jefferson, Beaumont, Texas.

Application Number: 11-07-C-00-BPT.

Application Type: Impose and use a PFC.

PFC Level: $4.50.

Total PFC Revenue Approved in this Decision: $926,595.

Earliest Charge Effective Date: June 1, 2011.

Estimated Charge Expiration Date: June 1, 2021.

Class of Air Carriers Not Required to Collect PFC's: None.

Brief Description of Projects Approved for Collection and Use:

Planning studies

Apron rehabilitation, phase I

Airfield sweeper

Airfield pavement markings

Airport operations area security improvements

Apron rehabilitation, phase II

PFC administration fees

Decision Date: November 4, 2010.

For Further Information Contact: Sarah Conner, Texas Airports Development Office, (817) 222-5643.

Public Agency: County of Broward, Fort Lauderdale, Florida.

Application Number: 10-11-C-00-FLL.

Application Type: Impose and use a PFC.

PFC Level: $4.50.

Total PFC Revenue Approved in this Decision: $24,909,327.

Earliest Charge Effective Date: April 1, 2017.

Estimated Charge Expiration Date: January 1, 2018.

Class of Air Carriers Not Required to Collect PFC's: Non-scheduled/on-demand air carriers.

Determination: Approved. Based on information contained in the public agency's application, the FAA has determined that the approved class accounts for less than 1 percent of the total annual enplanements at Fort Lauderdale/Hollywood International Airport.

Brief Description of Projects Approved for Collection and Use at a $4.50 PFC Level:

West Lake mitigation

Runway 9L/27R rehabilitation—corrective action plan—grading and re-grooving.

Airport Surveillance Radar-9 relocation.

Brief Description of Project Partially Approved for Collection and Use at a $4.50 PFC Level:

Taxiway C east end—phase 2.

Determination: Partially approved for collection and use. The approved amount is less than the amount requested because the public agency received an Airport Improvement Program grant to partially fund the project after the PFC application was submitted and the bid amounts were lower than had been estimated.

Brief Description of Projects Approved for Collection and Use at a $3.00 PFC Level:

Permanent in-line baggage system design

Terminal 3 security checkpoint relocation

Decision Date: November 18, 2010.

For Further Information Contact: Susan Moore, Orlando Airports District Office, (407) 812-6331.

Public Agency: Metropolitan Nashville Airport Authority, Nashville, Tennessee.

Application Number: 10-16-C-00-BNA.

Application Type: Impose and use a PFC.

PFC Level: $4.50.

Total PFC Revenue Approved in this Decision: $4,290,000.

Earliest Charge Effective Date: August 1, 2016.

Estimated Charge Expiration Date: November 1, 2016.

Class of Air Carriers Not Required to Collect PFC's: Air taxi operators that have less than 1 percent of the passenger boardings, enplane less than 25,000 passengers per year, and/or provide unscheduled air service at Nashville International Airport (BNA).

Determination: Approved. Based on information contained in the public agency's application, the FAA has determined that the approved class accounts for less than 1 percent of the total annual enplanements at BNA.

Brief Description of Projects Approved for Collection and Use at a $3.00 PFC Level:

Upgrade3 security camera system

Airport master plan update

Upgrade stormwater treatment plant

Brief Description of Project Approved for Collection and Use at a $4.50 PFC Level:

Reconstruct taxiways T4 and S.

Decision Date: November 18, 2010.

For Further Information Contact: Cynthia Willis, Memphis Airports District Office, (901) 322-8190.

Public Agency: City of Chicago, Department of Aviation, Chicago, Illinois.

Application Number: 10-23-C-00-ORD.

Application Type: Impose and use a PFC.

PFC Level: $4.50.

Total PFC Revenue Approved in this Decision: $1,400,818,394.

Earliest Charge Effective Date: August 1, 2028.

Estimated Charge Expiration Date: January 1, 2038.

Class of Air Carriers Not Required to Collect PFC's: Air taxi.

Determination: Approved. Based on information contained in the public agency's application, the FAA has determined that the approved class accounts for less than 1 percent of the total annual enplanements at Chicago O'Hare International Airport.

Brief Description of Projects Partially Approved for Collection and Use at a $4.50 PFC Level:

Construction of runway 9C/27C

Determination: Partially approved for collection and use. The approved amount is the same as was requested by the public agency. However, the FAA questions the public agency's treatment of the salvage value of the various demolition components. In addition, the FAA has determined that only that portion of the project relating to the demolition of the current facility is PFC-eligible for the component identified as “relocation of Chicago Department of Aviation communications service center and airport repair and construction complex. Finally, due to the complex topography and construction conditions, and that fact that the public agency is requesting less than the full amount which would be PFC-eligible, the FAA is allowing the line item identified as “contingency.”

Runway 9R/27L Extension

Determination: Partially approved for collection and use. The approved amount is the same as was requested by the public agency. Due to the complex topography and construction conditions, and that fact that the public agency is requesting less than the full amount which would be PFC-eligible, the FAA is allowing the line item identified as “contingency.”

Runway 10R/28L Construction

Determination: Partially approved for collection and use. The approved amount is the same as was requested by the public agency. However, after the PFC application was submitted, the City received funding from the FAA to design and construct the South Air Traffic Control Tower. In addition, due to the complex topography and construction conditions, and that fact that the public agency is requesting less than the full amount which would be PFC-eligible, the FAA is allowing the line item identified as “contingency.”

Taxiway LL Construction

Determination: Partially approved for collection and use. The approved amount is the same as was requested by the public agency. Due to the complex topography and construction conditions, and that fact that the public agency is requesting less than the full amount which would be PFC-eligible, the FAA is allowing the line item identified as “contingency.”

Decision Date: November 24, 2010.

For Further Information Contact: Amy Hanson, Chicago Airports District Office, (847) 294-7354.

Public Agency: Metropolitan Airport Authority of Rock Island County, Moline, Illinois.

Application Number: 10-05-C-00-MLI.

Application Type: Impose and use a PFC.

PFC Level: $4.50.

Total PFC Revenue Approved in this Decision: $24,612,015.

Earliest Charge Effective Date: July 1, 2017.

Estimated Charge Expiration Date: July 1, 2037.

Classes of Air Carriers Not Required to Collect PFC's:

(1) Air taxi/commercial operators; (2) large certificated air carriers without scheduled service.

Determination: Approved. Based on information contained in the public agency's application, the FAA has determined that each approved class accounts for less than 1 percent of the total annual enplanements at Quad City International Airport.

Brief Description of Projects Approved for Collection and Use:

Runway 9/27 rehabilitation

Loading bridges

Ground support tractor

Snow blower

Runway brooms

Decision Date: November 24, 2010.

For Further Information Contact: Amy Hanson, Chicago Airports District Office, (847) 294-7354.

Amendment to PFC Approvals
Amendment No. city, state | Amendment approved date | Original approved net PFC revenue | Amended approved net PFC revenue | Original estimated charge exp. date | Amended estimated charge exp. date
99-02-C-02-RST, Rochester, MN | 10/27/10 | $4,771,743 | $4,390,3700 | 07/01/07 | 08/01/08
95-01-C-08-MKE, Milwaukee, WI | 11/01/10 | 21,160,635 | 21,428,585 | 05/01/98 | 05/01/98
95-03-C-08-MKE, Milwaukee, WI | 11/01/10 | 42,759,321 | 42,945,325 | 12/01/04 | 12/01/04
00-06-C-07-MKE, Milwaukee, WI | 11/01/10 | 130,073,834 | 124,348,365 | 11/01/13 | 07/01/13
02-07-C-05-MKE, Milwaukee, WI | 11/01/10 | 35,786,991 | 35,251,806 | 02/01/16 | 11/01/15
00-02-I-03-HXD, Hilton Head, SC | 11/15/10 | 1,380,509 | 1,375,158 | 10/01/07 | 10/01/07
00-03-U-02-HXD, Hilton Head, SC | 11/15/10 | NA | NA | 10/01/07 | 10/01/07
94-01-C-11-CVG, Covington, KY | 11/17/10 | 27,431,000 | 28,247,000 | 04/01/96 | 04/01/96
09-12-C-03-CVG, Covington, KY | 11/17/10 | 21,455,000 | 22,477,000 | 01/01/16 | 12/01/15
03-04-C-01-BIS, Bismarck, ND | 11/23/10 | 5,574,555 | 4,816,814 | 09/01/14 | 02/01/11

Issued in Washington, DC, on December 07, 2010.
Joe Hebert,
Manager, Financial Analysis and Passenger Facility Charge Branch.

[FR Doc. 2010-31514 Filed 12-16-10; 8:45 am]

BILLING CODE 4910-13-M